GENERAL SERVICES ADMINISTRATION

41 CFR Chapter 102 and Part 102-2

RIN 3090-AG83

Federal Management Regulation (FMR)

AGENCY: Office of Governmentwide Policy, GSA.

ACTION: Final rule.

SUMMARY: The General Services Administration is establishing the Federal Management Regulation (FMR) as the successor regulation to the Federal Property Management Regulations (FPMR). The FMR will provide Federal managers with the regulatory materials they need to efficiently manage real and personal property and administrative services. The FMR is written in plain language to provide agencies with updated regulatory material that is easy to read and understand.

DATES: The effective date of the interim rule was July 21, 1999.

FOR FURTHER INFORMATION CONTACT: Rodney P. Lantier, Director, Regulatory Secretariat, 202-208-7312.

SUPPLEMENTARY INFORMATION

A. Background

An interim rule was published in the Federal Register on July 21, 1999 (64 FR 39083). Two comments were received and considered in adopting the interim rule as a final rule without change.

B. Executive Order 12866

GSA has determined that this final rule is not a significant regulatory action for the purposes of Executive Order 12866 of September 30, 1993.

C. Regulatory Flexibility Act

This final rule will not have a significant economic impact on a substantial number of small entities within the meaning of the Regulatory Flexibility Act, 5 U.S.C. 601-612 because it applies solely to matters concerning agency management and personnel.

D. Paperwork Reduction Act

The Paperwork Reduction Act does not apply because this final rule does not impose recordkeeping or information collection requirements, or the collection of information from offerors, contractors, or members of the public which require the approval of the Office of Management and Budget (OMB) under 44 U.S.C. 3501, et seq.

E. Small Business Regulatory Enforcement Fairness Act

This final rule is exempt from Congressional review prescribed under 5 U.S.C. 801 since it relates solely to agency management and personnel.

List of Subjects in 41 CFR Chapter 102

Government property management.

Interim Rule Adopted as Final Without Change

For the reasons set forth in the preamble and under the authority of 40 U.S.C. 486(c), the interim rule amending Title 41 of the Code of Federal Regulations which was published at 64 FR 39083 on July 21, 1999, is adopted as a final rule without change.

Dated: February 14, 2000.
David J. Barram,
Administrator of General Services.

[FR Doc. 00-4435 Filed 2-24-00; 8:45 am]

BILLING CODE 6820-34-P